DEPARTMENT OF DEFENSE

Department of the Navy

Notice of Partially Closed Meeting of the Naval Research Advisory Committee

AGENCY: Department of the Navy, DoD.

ACTION: Notice.

SUMMARY: The Naval Research Advisory Committee (NRAC) will meet to brief the Assistant Secretary of the Navy; Research, Development and Acquisition (ASN (RD&A)) on the results of the committee's summer studies covering two topics: Undersea Maritime Domain Awareness (UMDA) and Disruptive Commercial Technologies (DCT). During the UMDA briefing, the committee will discuss classified information at the secret level from government organizations and proprietary information from commercial industry organizations.

Discussions will focus on the exploitation of physical vulnerabilities and the tactical applications of known and emerging technologies. The Executive Session of this meeting will be closed to the public.

DATES: The open session of the meeting will be held on Wednesday, September 24, 2008, from 8:30 a.m. to 8:55 a.m. and from 10 a.m. to 11 a.m. The closed Executive Session on Wednesday, September 24, 2008, will be held from 9 a.m. to 9:45 a.m.

The open session of the meeting held on Thursday, September 25, 2008, will be from 8:30 a.m. to 8:55 a.m. and from 11 a.m. to 12:45 p.m. The closed Executive Session will be held on Thursday, September 25, 2008, from 9 a.m. to 10:45 a.m.

ADDRESSES: The briefing to the ASN (RD&A) will be held: September 24, 2008: Conference Room M4, The Pentagon, Washington, DC; September 25, 2008: Pentagon Auditorium, The Pentagon, Washington, DC.

FOR FURTHER INFORMATION CONTACT: Mr. William H. Ellis, Jr., Program Director, Naval Research Advisory Committee, 875 North Randolph Street, Arlington, VA 22203-1955, telephone: 703-696-5775.

SUPPLEMENTARY INFORMATION: This notice of meeting is provided per the Federal Advisory Committee Act, as amended (5 U.S.C. App.). Participants' registration, introduction/welcoming remarks and the Disruptive Commercial Technologies session on both Wednesday, September 24, 2008, and Thursday, September 25, 2008, are unclassified and are open to the public. Two sessions of the briefing will be devoted to Undersea Maritime Domain Awareness. Those two sessions will include discussions and technical examination of information related to undersea disruptive technologies to U.S. Navy and U.S. Marine Corps combat operations.

In addition, these sessions will discuss proprietary information as well as classified information that is specifically authorized under criteria established by Executive Order to be kept secret in the interest of national defense and is in fact properly classified pursuant to such Executive Order and SECNAV Instructions M-5510.36 of June 2006. The proprietary, classified and non-classified matters to be discussed during these two sessions are so inextricably intertwined as to preclude opening this session of the briefing.

In accordance with 5 U.S.C. App. section 10(d), the Secretary of the Navy has determined in writing that the UMDA sessions of the briefing will be closed to the public because they will discuss matters listed in 5 U.S.C. section 552b(c)(1), (4) and SECNAV Instructions M-5510.36 of June 2006.

Dated: August 29, 2008.
T. M. Cruz,
Lieutenant Commander, Judge Advocate General's Corps, U.S. Navy,Federal Register Liaison Officer.

[FR Doc. E8-20553 Filed 9-4-08; 8:45 am]

BILLING CODE 3810-FF-P